DEPARTMENT OF COMMERCE

International Trade Administration

[A-357-812, C-357-813]

Honey From Argentina; Final Results of Sunset Reviews and Revocation of Antidumping Duty and Countervailing Duty Orders

AGENCY: Import Administration, International Trade Administration, Department of Commerce.

SUMMARY: On July 2, 2012, the Department of Commerce (the Department) initiated sunset reviews of the antidumping duty and countervailing duty orders on honey from Argentina.¹ Because no domestic interested party responded to the sunset review notice of initiation by the applicable deadline, the Department is revoking the antidumping duty and countervailing duty orders on honey from Argentina.

¹ See Initiation of Five-Year (“Sunset”) Review, 77 FR 39217 (July 2, 2012) (Initiation Notice).

DATES: Effective Date: August 2, 2012.

FOR FURTHER INFORMATION CONTACT: Elfi Blum, AD/CVD Operations, Office 6, Import Administration, International Trade Administration, U.S. Department of Commerce, 14th Street and Constitution Avenue NW., Washington, DC 20230; telephone: (202) 482-0197.

SUPPLEMENTARY INFORMATION:

Scope of the Orders

The merchandise subject to the orders is natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by the orders is currently classifiable under subheadings 0409.00.00, 1702.90.90, and 2106.90.99 of the Harmonized Tariff Schedule of the United States (HTSUS). Although the HTSUS subheadings are provided for convenience and customs purposes, the Department's written description of the merchandise under the orders is dispositive.

Background

The Department published antidumping duty and countervailing duty orders on honey from Argentina on December 10, 2001.² In the first sunset reviews, the Department and the International Trade Commission (ITC) determined that continuation of the orders was warranted.³

² See Notice of Antidumping Duty Order; Honey From Argentina, 66 FR 63672 (December 10, 2001) and Notice of Countervailing Duty Order: Honey From Argentina, 66 FR 63673 (December 10, 2001).

³ See Continuation of Antidumping Duty Orders on Honey from Argentina and the People's Republic of China, and Continuation of Countervailing Duty Order on Honey From Argentina, 72 FR 42384 (August 2, 2007).

On July 2, 2012, the Department initiated the current sunset reviews pursuant to section 751(c) of the Tariff Act of 1930, as amended (the Act), and 19 CFR 351.218. See Initiation Notice. We received no response from the domestic industry by the deadline date. See 19 CFR 351.218(d)(1)(i). As a result, the Department has determined that no domestic interested party intends to participate in the sunset reviews. See 19 CFR 351.218(d)(1)(iii)(A). On July 22, 2012, the Department notified the ITC in writing that we intended to revoke the antidumping duty and countervailing duty orders on honey from Argentina. See 19 CFR 351.218(d)(1)(iii)(B)(2).

Revocation

Pursuant to section 751(c)(3)(A) of the Act and 19 CFR 351.218(d)(1)(iii)(B)(3), if no domestic interested parties respond to a notice of initiation, the Department shall, within 90 days after the initiation of the review, revoke the order. Because no domestic interested party filed a notice of intent to participate in these sunset reviews, we are revoking the antidumping duty and countervailing duty orders on honey from Argentina.

Effective Date of Revocation

Pursuant to sections 751(c)(3)(A) and 751(c)(6)(A)(iii) of the Act, and 19 CFR 351.222(i)(2)(i), the Department will instruct U.S. Customs and Border Protection to terminate the suspension of liquidation of the merchandise subject to these orders entered, or withdrawn from warehouse, on or after August 2, 2012, the fifth anniversary of the date of publication of the last continuation notice. Entries of subject merchandise prior to the effective date of revocation will continue to be subject to suspension of liquidation and antidumping duty and countervailing duty deposit requirements. The Department will complete any pending reviews of these orders and will conduct administrative reviews of subject merchandise entered prior to the effective date of revocation in response to appropriately filed requests for review.

These five-year (“sunset”) reviews and this notice are issued and published in accordance with sections 751(c) and 777(i)(1) of the Act.

Dated: September 17, 2012.
Paul Piquado,
Assistant Secretary for Import Administration.

[FR Doc. 2012-23359 Filed 9-20-12; 8:45 am]

BILLING CODE 3510-DS-P